DEPARTMENT OF COMMERCE

National Oceanic and Atmospheric Administration

National Estuarine Research Reserve System

AGENCY: Estuarine Reserves Division, Office of Ocean and Coastal Resource Management, National Ocean Service, National Oceanic and Atmospheric Administration, U.S. Department of Commerce.

ACTION: Notice of Public Comment Period for the revised Jobos Bay National Estuarine Research Reserve Management Plan.

SUMMARY: Notice is hereby given that the Estuarine Reserves Division, Office of Ocean and Coastal Resource Management, National Ocean Service, National Oceanic and Atmospheric Administration (NOAA), U.S. Department of Commerce is announcing a thirty day public comment period for the review of the revised Jobos Bay National Estuarine Research Reserve Management Plan.

The Jobos Bay National Estuarine Research Reserve was designated in 1981 pursuant to Section 315 of the Coastal Zone Management Act of 1972, as amended, 16 U.S.C. 1461. The Reserve has been operating in partnership with the Puerto Rico Department of Natural and Environmental Resources under a management plan approved in 2000. Pursuant to 15 CFR Section 921.33(c), a state must revise their management plan every five years. The submission of this plan fulfills this requirement and sets a course for successful implementation of the goals and objectives of the Reserve.

Since 2000, the Reserve has added an estuary training program that delivers science-based information to key decision makers in Puerto Rico; completed a characterization of the Reserve's benthic habitats and watershed land use and land cover; acquired new parcels of land behind the visitor center and in the offshore keys; constructed a new pier to support reserve operations; and expanded the monitoring, stewardship and education programs.

Notable updates in the 2011-2016 management plan include priorities for new facilities, updated programmatic objectives, and a boundary expansion to include the lands that have been purchased since the last management plan was approved. The additional parcels included in the reserve boundary include 416.9 acres of mangrove, upland forest and salt flat habitats.

The revised management plan outlines the administrative structure; the education, stewardship, and research goals of the Reserve; and the plans for future land acquisition and facility development to support Reserve operations. This management plan describes how the strengths of the Reserve will focus on several issues relevant to the Jobos Bay, Puerto Rico and the broader Caribbean region, including sea level rise and other effects of climate change, development pressure, and tourism.

FOR FURTHER INFORMATION CONTACT: Nina Garfield at (301) 563-1171 or Laurie McGilvray at (301) 563-1158 of NOAA's National Ocean Service, Estuarine Reserves Division, 1305 East-West Highway, N/ORM5, 10th floor, Silver Spring, MD 20910. For copies of the Jobos Bay Management Plan revision, visit: http://jbnerr.org.

Dated: December 22, 2010.
Donna Wieting,
Director, Office of Ocean and Coastal Resource Management, National Oceanic and Atmospheric Administration.

[FR Doc. 2011-506 Filed 1-11-11; 8:45 am]

BILLING CODE 3510-08-P